DEPARTMENT OF TRANSPORTATION

Federal Aviation Administration

Notice of Request To Release Airport Property; Maquoketa Municipal Airport (OQW), Maquoketa, Iowa

AGENCY: Federal Aviation Administration (FAA), DOT.

ACTION: Notice of intent to rule on request to release airport property for land disposal.

SUMMARY: The FAA proposes to rule and invites public comments on the release and disposal of one parcel of land at the Maquoketa Municipal Airport (OQW), Maquoketa, Iowa.

DATES: Comments must be received on or before October 24, 2025.

ADDRESSES: Comments on this application may be mailed or delivered to the FAA at the following address: Amy J. Walter, Airports Land Specialist, Federal Aviation Administration, Airports Division, ACE-620G, 901 Locust, Room 364, Kansas City, MO 64106.

In addition, one copy of any comments submitted to the FAA must be mailed or delivered to: Joshua Boldt, City Manager, City of Maquoketa, 201 E Pleasant Street, Maquoketa, IA 52060, (563) 652-2484.

FOR FURTHER INFORMATION CONTACT: Amy J. Walter, Airports Land Specialist, Federal Aviation Administration, Airports Division, ACE-620G, 901 Locust, Room 364, Kansas City, MO 64106, (816) 329-2603, amy.walter@faa.gov.

The request to release property may be reviewed, by appointment, in person at this same location.

SUPPLEMENTARY INFORMATION: The FAA invites public comment on the request to release approximately 3.59-acres of airport property at the Maquoketa Municipal Airport (OQW) under the provisions of 49 U.S.C. 47107(h)(2). The City Manager has requested from the FAA one parcel totaling 3.59-acres of airport property be released from obligations and sold. The FAA determined the request to release and sell this property at the Maquoketa Municipal Airport (OQW) submitted by the Sponsor meets the procedural requirements of the Federal Aviation Administration and the release and sale of the property does not and will not impact future aviation needs at the airport. The FAA may approve the request, in whole or in part, no sooner than thirty days after the publication of this Notice.

The following is a brief overview of the request:

Maquoketa Municipal Airport (OQW) is proposing the release and sale of 3.59-acres of airport property. The release of land is necessary to comply with Federal Aviation Administration Grant Assurances that do not allow federally acquired airport property to be used for non-aviation purposes. The sale of the subject property will result in the release of land and surface rights at the Maquoketa Municipal Airport (OQW) from the conditions of the AIP Grant Agreement Grant Assurances. In accordance with 49 U.S.C. 47107(c)(2)(B)(i) and (iii), the airport will receive fair market value when the parcel is sold.

Any person may inspect, by appointment, the request in person at the FAA office listed above under FOR FURTHER INFORMATION CONTACT. In addition, any person may request an appointment and inspect the application, notice and other documents determined by the FAA to be related to the application in person at the Maquoketa Municipal Airport.

Issued in Kansas City, MO, on September 22, 2025.
Rodney N. Joel,
Director, FAA Central Region, Airports Division.

[FR Doc. 2025-18507 Filed 9-23-25; 8:45 am]

BILLING CODE 4910-13-P